DEPARTMENT OF HOMELAND SECURITY

[CIS No. 2524-12; DHS Docket No. USCIS-2012-0009]

RIN 1615-ZB14

Extension of the Designation of Haiti for Temporary Protected Status

AGENCY: U.S. Citizenship and Immigration Services, DHS.

ACTION: Notice.

SUMMARY: This notice announces that the Secretary of Homeland Security (Secretary) is extending the designation of Haiti for Temporary Protected Status (TPS) for 18 months from January 23, 2013 through July 22, 2014. The extension allows currently eligible TPS beneficiaries to retain TPS through July 22, 2014. The Secretary has determined that an extension is warranted because the conditions in Haiti that prompted the initial 2010 TPS designation and the 2011 redesignation continue to be met. There continue to be extraordinary and temporary conditions in Haiti resulting from the devastating effects of the January 2010 earthquake that prevent Haitians from returning to their country in safety. Permitting eligible Haitians to remain temporarily in the United States is not contrary to the national interest of the United States.

This notice also sets forth procedures necessary for nationals of Haiti (or aliens having no nationality who last habitually resided in Haiti) to re-register for TPS and to apply for renewal of their Employment Authorization Documents (EADs) with U.S. Citizenship and Immigration Services (USCIS). Re-registration is limited to persons who have previously registered for TPS under the designation of Haiti and whose applications have been granted. Certain nationals of Haiti (or aliens having no nationality who last habitually resided in Haiti) who have not previously applied for TPS may be eligible to apply under the late initial registration provisions, if they meet: (1) At least one of the late initial filing criteria and (2) all TPS eligibility criteria (including continuous residence in the United States since January 12, 2011, and continuous physical presence in the United States since July 23, 2011).

USCIS will issue new EADs with a July 22, 2014 expiration date to eligible Haitian TPS beneficiaries who timely re-register and apply for EADs under this extension. Given the timeframes involved with processing TPS re-registration applications, the Department of Homeland Security (DHS) recognizes that all re-registrants may not receive new EADs until after their current EADs expire on January 22, 2013. Accordingly, this Notice automatically extends the validity of EADs issued under the TPS designation of Haiti for 6 months, from January 22, 2013 through July 22, 2013, and explains how TPS beneficiaries and their employers may determine which EADs are automatically extended and their impact on the Employment Eligibility Verification (Form I-9) and E-Verify processes.

DATES: The 18-month extension of the TPS designation of Haiti is effective January 23, 2013, and will remain in effect through July 22, 2014. The 60-day re-registration period begins October 1, 2012 and will remain in effect until November 30, 2012.

FOR FURTHER INFORMATION CONTACT:

• For further information on TPS, including guidance on the application process and additional information on eligibility (including eligibility for late initial registration), please visit the USCIS TPS Web page at http://www.uscis.gov/tps. The general TPS Web page has detailed information on filing and eligibility requirements. You can find specific information about this extension of Haiti for TPS by selecting “TPS Designated Country: Haiti” from the menu on the left of the TPS Web page. You can obtain information in French or Creole by selecting the language from the menu on the right from the TPS Haiti-specific Web page.

• You can also contact the TPS Operations Program Manager at the Status and Family Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquiries.

• Applicants seeking information about the status of their individual cases can check Case Status Online, available at the USCIS Web site at http://www.uscis.gov, or call the USCIS National Customer Service Center at 1-800-375-5283 (TTY 1-800-767-1833). Service is available in English and Spanish only.

• Further information will also be available at local USCIS offices upon publication of this notice.

SUPPLEMENTARY INFORMATION:

Abbreviations and Terms Used in This Document

BIA—Board of Immigration Appeals

DHS—Department of Homeland Security

DOS—Department of State

EAD—Employment Authorization Document

Government—U.S. Government

HNP—Haitian National Police

IDP—Internally Displaced Persons

IJ—Immigration Judge

INA—Immigration and Nationality Act

OSC—U.S. Department of Justice, Office of Special Counsel for Immigration-Related Unfair Employment Practices

PAHO—Pan American Health Organization

Secretary—Secretary of Homeland Security

SAVE—USCIS Systematic Alien Verification for Entitlements Program

TPS—Temporary Protected Status

UN—United Nations

USCIS—U.S. Citizenship and Immigration Services

What is Temporary Protected Status (TPS)?

• TPS is an immigration status granted to eligible nationals of a country designated for TPS under the Immigration and Nationality Act (INA), or to persons without nationality who last habitually resided in the designated country.

• During the TPS designation period, TPS beneficiaries are eligible to remain in the United States and may obtain work authorization, so long as they continue to meet the requirements of TPS status.

• TPS beneficiaries may also be granted travel authorization as a matter of discretion.

• The granting of TPS does not lead to permanent resident status.

• When the Secretary terminates a country's TPS designation, beneficiaries return to the same immigration status they maintained before TPS (unless that status has since expired or been terminated) or to any other lawfully obtained immigration status they received while registered for TPS.

When was Haiti designated for TPS?

On January 22, 2010, the Secretary designated Haiti for TPS based on extraordinary and temporary conditions within the country, specifically the effects of the 7.0-magnitude earthquake that occurred January 12, 2010. See 75 FR 3476. In 2011, the Secretary extended Haiti's designation and redesignated Haiti for TPS for 18 months through January 22, 2013. See 76 FR 29000 (May 19, 2011). This announcement is the second extension of TPS for Haiti since the original designation in January 2010.

What authority does the Secretary have to extend the designation of Haiti for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the INA, 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the INA, 8 U.S.C. 1254a(b)(3)(A). If the Secretary determines that a foreign state continues to meet the conditions for TPS designation, the designation is extended for an additional 6 months (or in the Secretary's discretion for 12 or 18 months). See section 244(b)(3)(C) of the INA, 8 U.S.C. 1254a(b)(3)(C). If the Secretary determines that the foreign state no longer meets the conditions for TPS designation, the Secretary must terminate the designation. See section 244(b)(3)(B) of the INA, 8 U.S.C. 1254a(b)(3)(B).

Why is the Secretary extending the TPS designation for Haiti for TPS through July 22, 2014?

Over the past year, the Department of Homeland Security (DHS) and the Department of State (DOS) have continued to review conditions in Haiti. Based on this review and after consulting with DOS, the Secretary has determined that an 18-month extension is warranted because the extraordinary and temporary conditions that prompted the original January 2010 TPS designation and the July 2011 extension and redesignation persist.

The January 12, 2010 earthquake that struck Haiti caused extensive damage to infrastructure, public health, agriculture, transportation, and educational facilities. A coordinated international effort and strong partnership with the Haitian people resulted in emergency response activities that saved lives and laid a foundation for Haiti to rebuild. However, many of the conditions prompting the original January 2010 TPS designation and the July 2011 extension and redesignation persist.

Haitian government estimates of the death toll caused by the earthquake have ranged from 230,000 to over 300,000 people. The Government of Haiti further estimated that more than 1,000,000 people were displaced within the Port-au-Prince metropolitan area. Destruction from the earthquake rose to catastrophic levels due to Haiti's already weak infrastructure, as the government struggled to provide minimum basic services even prior to the earthquake.

Security in Haiti remains a concern as progress toward a return to country conditions before the January 2010 earthquake has been slow. The earthquake killed 77 officers of the Haitian National Police (HNP), injured 253 officers, and destroyed or severely damaged 45 HNP stations and substations. The earthquake destroyed 13 of the 15 ministry buildings and 180 other government buildings, including the National Palace. In addition to devastating the center of government, damage from the earthquake paralyzed the economic center as well. Some 30,000 commercial buildings suffered severe damage, collapsed, or were expected to be demolished. Political instability, including the resignation of Prime Minister Conille, had also hampered the reconstruction process. Without the Government of Haiti's authority to fully engage in development decisions, the reconstruction process was at a standstill. However, a new Prime Minister and cabinet are now in place.

Following the January 2010 earthquake, more than 1,000,000 Haitians were left homeless and living in temporary camps. In early 2012, approximately 500,000 people continued to live in internally displaced persons (IDP) camps, which are vulnerable to flooding, disease, crime, and gender-based violence. Alternative housing options are lacking. Severely damaged infrastructure remains unrepaired, disrupting the informal businesses on which the economy is based. Rubble continues to impede recovery efforts. By some estimates, the amount of debris in Port-au-Prince alone after the earthquake was about 33,000,000 cubic yards. The scale of the damage, level of displacement, low funding, and the lack of a government housing reconstruction policy have all impeded reconstruction efforts.

Poor camp conditions were exacerbated by steady rains in October 2010, which led to flooding and contributed to a deadly cholera outbreak. According to the Haitian Ministry of Health, as of May 1, 2012, there have been an estimated 532,192 cholera cases and 7,060 associated deaths since October 2010. The Pan American Health Organization (PAHO) warns that 200,000 to 250,000 people could contract the disease during the April to November 2012 rainy season.

Food security continues to be a problem 2 years after the earthquake, although much progress has been made. The quality of drinking water in the camps has remained stable since January 2012 according to the National Directorate for Potable Water and Sanitation of the Republic of Haiti. A survey conducted at 433 sites showed that roughly 63 percent of the camp population is drinking chlorinated water. Despite this promising number, camp sanitation remains a concern.

Children are a particularly vulnerable population in Haiti. Of the 661,000 displaced persons outside of Port-au-Prince six months after the quake, roughly half were estimated to be children. The Ministry of Education in Haiti estimated that 80 percent of the schools west of the capital were destroyed or severely damaged in the earthquake. The Ministry further estimated that some 35 to 40 percent of schools in the southeast were destroyed, rendering the total number of schools destroyed or severely damaged as high as 5,000.

The 2010 earthquake exacerbated Haiti's position as the poorest nation in the Western Hemisphere and one of the poorest nations in the world. Given the risk of contracting cholera, unsafe living conditions in IDP camps, damaged infrastructure, and a shortage of permanent shelter, it is unsafe for Haitians currently in the United States with TPS to return home. While the situation has improved, the effects of the earthquake continue to reverberate in Haiti.

Based upon this review and after consultation with appropriate Government agencies, the Secretary finds that:

• The conditions that prompted the July 23, 2011 extension and redesignation of Haiti for TPS continue to be met. See section 244(b)(3)(A) and (C) of the INA, 8 U.S.C. 1254a(b)(3)(A) and (C).

• There continue to be extraordinary and temporary conditions in Haiti that prevent Haitian nationals from returning to Haiti in safety. See section 244(b)(1)(C) of the INA, 8 U.S.C. 1254a(b)(1)(C).

• It is not contrary to the national interest of the United States to permit Haitians (and persons who have no nationality who last habitually resided in Haiti) who meet the eligibility requirements of TPS to remain in the United States temporarily. See section 244(b)(1)(C) of the INA, 8 U.S.C. 1254a(b)(1)(C).

• The designation of Haiti for TPS should be extended for an additional 18-month period from January 23, 2013 through July 22, 2014. See section 244(b)(3)(C) of the INA, 8 U.S.C. 1254a(b)(3)(C).

• There are approximately 60,000 current Haiti TPS beneficiaries who are expected to be eligible to re-register for TPS under the extension.

Notice of Extension of the TPS Designation of Haiti

By the authority vested in me as Secretary under section 244 of the INA, 8 U.S.C. 1254a, I have determined, after consultation with the appropriate Government agencies, that the conditions that prompted the redesignation of Haiti for TPS on July 23, 2011 continue to be met. See section 244(b)(3)(A) of the INA, 8 U.S.C. 1254a(b)(3)(A). On the basis of this determination, I am extending the existing TPS designation of Haiti for 18 months from January 23, 2013 through July 22, 2014.

Janet Napolitano,
Secretary.

Required Application Forms and Application Fees To Register or Re-register for TPS

To register or re-register for TPS for Haiti, an applicant must submit each of the following two applications:

1. Application for Temporary Protected Status (Form I-821).

• You only need to pay the Application for Temporary Protected Status (Form I-821) application fee if you are filing an application for late initial registration. See 8 CFR 244.2(f)(2) and information on late initial filing on the USCIS TPS Web page at www.uscis.gov/tps.

• You do not need to pay the Application for Temporary Protected Status (Form I-821) fee for a re-registration;

and

2. Application for Employment Authorization (Form I-765).

• If you are applying for re-registration, you must pay the Application for Employment Authorization (Form I-765) fee only if you want an EAD.

• If you are applying for late initial registration and want an EAD, you must pay the Application for Employment Authorization (Form I-765) fee only if you are age 14 through 65. No Application for Employment Authorization (Form I-765) fee is required if you are under the age of 14 or over the age of 65 and applying for late initial registration.

• You do not pay the Application for Employment Authorization (Form I-765) fee if you are not requesting an EAD, regardless of whether you are applying for re-registration or are filing a late initial registration.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for Application for Temporary Protected Status (Form I-821), Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-Filing a Re-Registration TPS Application After Receiving a Denial of a Fee Waiver Request

USCIS urges all re-registering applicants to file as soon as possible within the 60-day re-registration period so that USCIS can promptly process the applications and issue EADs. Filing early will also allow those applicants who may receive denials of their fee waiver requests to have time to re-file their applications before the re-registration deadline. If, however, an applicant receives a denial of his or her fee waiver request and is unable to re-file by the re-registration deadline, the applicant may still re-file his or her application. This situation will be reviewed under good cause for late re-registration. However, applicants are urged to re-file within 45 days of the date on their USCIS fee waiver denial notice, if at all possible. See section 244(c)(3)(C) of the INA; 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD and pay the Application for Employment Authorization (Form I-765) fee after USCIS has approved the individual's TPS re-registration, if he or she is eligible.

Mailing Information

Mail your application for TPS to the proper address in Table 1:

Table 1—Mailing Address
If you live in . . . | For regular mail using the U.S. Postal Service, send to . . . | For delivery services other than the U.S. Postal Service, send to . . .
The State of Florida | USCIS, P.O. Box 4464, Chicago, IL 60680-4464 | USCIS, Attn: TPS Haiti, 131 S. Dearborn 3rd Floor, Chicago, IL 60603-5517.
The State of New York | USCIS, P.O. Box 660167, Dallas, TX 75266-0167 | USCIS, Attn: TPS Haiti, 2501 S. State Hwy. 121, Business, Suite 400, Lewisville, TX 75067.
Any other state | USCIS, P.O. Box 24047, Phoenix, AZ 85074-4047 | USCIS, Attn: TPS Haiti, 1820 E. Skyharbor Circle S, Suite 100, Phoenix, AZ 85034.

If you were granted TPS by an Immigration Judge (IJ) or the Board of Immigration Appeals (BIA), and you wish to request an EAD or are re-registering for the first time following a grant of TPS by the IJ or BIA, please mail your application to the appropriate address in Table 1 above. Upon receiving a Receipt Notice from USCIS, please send an email to the appropriate USCIS Service Center handling your application providing the receipt number and stating that you submitted a re-registration and/or request for an EAD based on an IJ/BIA grant of TPS. If your USCIS receipt number begins with the letters “LIN”, please email the Nebraska Service Center at TPSijgrant.nsc@uscis.dhs.gov. If your USCIS receipt number begins with the letters “WAC”, please email the California Service Center at TPSijgrant.csc@uscis.dhs.gov. You can find detailed information on what further information you need to email and the email addresses on the USCIS TPS Web page at http://www.uscis.gov/tps.

E-Filing

You cannot electronically file your application when registering or re-registering for Haiti TPS. Please mail your application to the mailing address listed in Table 1 above.

Employment Authorization Document (EAD)

May I request an interim EAD at my local USCIS office?

No. USCIS will not issue interim EADs to TPS applicants and re-registrants at local offices.

Am I eligible to receive an automatic 6-month extension of my current EAD from January 22, 2013 through July 22, 2013?

Provided that you currently have TPS under the Haiti designation, this notice automatically extends your EAD by 6 months if you:

• Are a national of Haiti (or an alien having no nationality who last habitually resided in Haiti);

• Received an EAD under the last extension or re-designation of TPS for Haiti; and

• Have an EAD with a marked expiration date of January 22, 2013, bearing the notation “A-12” or “C-19” on the face of the card under “Category.”

Although your EAD is automatically extended through July 22, 2013 by this notice, you must re-register timely for TPS in accordance with the procedures described in this notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization) on the Employment Eligibility Verification (Form I-9). An EAD is an acceptable document under “List A.” Employers may not reject a document based upon a future expiration date.

If your EAD has an expiration date of January 22, 2013, and states “A-12” or “C-19” under “Category”, it has been extended automatically for 6 months by virtue of this Federal Register notice, and you may choose to present your EAD to your employer as proof of identity and employment authorization for Employment Eligibility Verification (Form I-9) through July 22, 2013 (see the subsection below titled “How do I and my employer complete the Employment Eligibility Verification (Form I-9) (i.e., verification) using an automatically extended EAD for a new job?” for further information). To minimize confusion over this extension at the time of hire, you may also show your employer a copy of this Federal Register notice confirming the automatic extension of employment authorization through July 22, 2013. As an alternative to presenting your automatically extended EAD, you may choose to present any other acceptable document from List A, or List B plus List C.

What documentation may I show my employer if I am already employed but my current TPS-related EAD is set to expire?

Even though EADs with an expiration date of January 22, 2013, that state “A-12” or “C-19” under “Category” have been automatically extended for 6 months by virtue of this Federal Register notice, your employer will need to ask you about your continued employment authorization once January 22, 2013 is reached in order to meet its responsibilities for Employment Eligibility Verification (Form I-9). However, your employer does not need a new document in order to reverify your employment authorization until after July 22, 2013. Instead, you and your employer must make corrections to the employment authorization expiration dates in section 1 and section 2 of the Employment Eligibility Verification (Form I-9) (see the subsection below titled “What corrections should I and my employer at my current job make to the Employment Eligibility Verification (Form I-9) if my EAD has been automatically extended?” for further information). In addition, you may also show this Federal Register notice to your employer to avoid confusion about what to do for the Form I-9.

After July 22, 2013, when the automatic extension expires, your employer must reverify your employment authorization. You may show any document from List A or List C on the Employment Eligibility Verification (Form I-9) to satisfy this reverification requirement. Your employer is required to reverify on the Employment Eligibility Verification (Form I-9) your continued employment authorization upon the July 22, 2013 expiration of your TPS-related EAD but may not specify which List A or List C document you must present. Employers reverify either in Section 3 of the Form I-9 originally completed or, if this section has already been completed or if the version of Form I-9 is no longer valid, in Section 3 of a new Form I-9 using the most current version.

What happens after July 22, 2013 for purposes of employment authorization?

After July 22, 2013, employers may no longer accept the EADs that this Federal Register notice automatically extended. However, before that time, USCIS will issue new EADs to TPS re-registrants. These new EADs will have an expiration date of July 22, 2014 and can be presented to your employer for completion of Employment Eligibility Verification (Form I-9). Alternatively, you may choose to present any other legally acceptable document or combination of documents listed on the Employment Eligibility Verification (Form I-9).

How do I and my employer complete the Employment Eligibility Verification (Form I-9) (i.e., verification) using an automatically extended EAD for a new job?

When using an automatically extended EAD to fill out the Employment Eligibility Verification (Form I-9) for a new job prior to July 22, 2013, you and your employer should do the following:

(1) For Section 1, you should:

a. Check “An alien authorized to work”;

b. Write your alien number (USCIS number or A-number) in the first space (your EAD or other document from DHS will have your USCIS number or A-number printed on it; the USCIS Number is the same as your A-number without the A prefix); and

c. Write the automatic extension date (July 22, 2013) in the second space.

(2) For Section 2, employers should record the:

a. Document title;

b. Document number; and

c. Automatically extended EAD expiration date (July 22, 2013).

After July 22, 2013, employers must reverify the employee's employment authorization in Section 3 of the Employment Eligibility Verification (Form I-9).

What corrections should my current employer and I make to the Employment Eligibility Verification (Form I-9) if my EAD has been automatically extended?

If you are an existing employee who presented a TPS-related EAD that was valid when you first started your job, but that EAD has now been automatically extended, you and your employer should correct your previously completed Employment Eligibility Verification (Form I-9) as follows:

(1) For Section 1, you should:

a. Draw a line through the expiration date in the second space;

b. Write “July 22, 2013” above the previous date;

c. Write “TPS Ext.” in the margin of Section 1; and

d. Initial and date the correction in the margin of Section 1.

(2) For Section 2, employers should:

a. Draw a line through the expiration date written in Section 2;

b. Write “July 22, 2013” above the previous date;

c. Write “TPS Ext.” in the margin of Section 2; and

d. Initial and date the correction in the margin of Section 2.

After July 22, 2013, when the automatic extension of EADs expires, employers must reverify the employee's employment authorization in Section 3.

If I am an employer enrolled in E-Verify, what do I do when I receive a “Work Authorization Documents Expiration” alert for an automatically extended EAD?

If you are an employer who participates in E-Verify, you will receive a “Work Authorization Documents Expiring” case alert when a TPS beneficiary's EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). After July 22, 2013, employment authorization must be reverified in Section 3. Employers should never use E-Verify for reverification.

Can my employer require that I produce any other documentation to prove my status, such as proof of my Haitian citizenship?

No. When completing the Employment Eligibility Verification (Form I-9), including reverifying employment authorization, employers must accept any documentation that appears on the Employment Eligibility Verification (Form I-9) lists of acceptable documentation, and that reasonably appears to be genuine and that relates to you. Employers may not request documentation that does not appear on the Lists of the Acceptable Document for Form I-9. Therefore, employers may not request proof of Haitian citizenship when completing the Employment Eligibility Verification (Form I-9) for new hires or reverifying the employment authorization of current employees. If presented with EADs that have been automatically extended pursuant to this Federal Register notice or EADs that are unexpired on their face, employers should accept such EADs as valid “List A” documents so long as the EADs reasonably appear to be genuine and to relate to the employee. See below for important information about your rights if your employer rejects lawful documentation, requires additional documentation, or otherwise discriminates against you based on your citizenship or immigration status, or your national origin.

Note to All Employers

Employers are reminded that the laws requiring proper employment eligibility verification and prohibiting unfair immigration-related employment practices remain in full force. This notice does not supersede or in any way limit applicable employment verification rules and policy guidance, including those rules setting forth reverification requirements. For general questions about the employment eligibility verification process, employers may call the USCIS Form I-9 Customer Support at 1-888-464-4218 (TDD 877-875-6028 for hearing impaired). For questions about avoiding discrimination during the employment eligibility verification process, employers may also call the Department of Justice, Office of Special Counsel for Immigration-Related Unfair Employment Practices (OSC) Employer Hotline at 1-800-255-8155 (TDD for the hearing impaired is at 1-800-237-2515), which offers language interpretation in numerous languages.

Note to Employees

For general questions about the employment eligibility verification process, employees may call the USCIS National Customer Service Center at 1-800-375-5283; calls are accepted in English and Spanish. Employees or applicants may also call the OSC Worker Information Hotline at 1-800-255-7688 (TDD for the hearing impaired is at 1-800-237-2515) for information regarding employment discrimination based upon citizenship or immigration status, or based on national origin, or for information regarding discrimination related to the Employment Eligibility Verification (Form I-9) and E-Verify. The OSC Worker Information Hotline provides language interpretation in numerous languages. In order to comply with the law, employers must accept any document or combination of documents acceptable for Employment Eligibility Verification (Form I-9) completion if the documentation reasonably appears to be genuine and to relate to the employee. Employers may not require extra or additional documentation beyond what is required for Employment Eligibility Verification (Form I-9) completion. Further, employers participating in E-verify who receive an E-verify initial mismatch (“tentative nonconfirmation” or “TNC”) on employees must inform employees of the mismatch and give such employees an opportunity to challenge the mismatch. Employers are prohibited from taking adverse action against such employees based on the initial mismatch unless and until E-Verify returns a final nonconfirmation. For example, employers must allow employees challenging their mismatches to continue to work without any delay in start date or training, and without any change in hours or pay, while the final E-Verify determination remains pending. Additional information is available on the OSC Web site at http://www.justice.gov/crt/about/osc and the USCIS Web site at http://www.dhs.gov/E-verify.

Note Regarding Federal, State and Local Government Agencies (Such as Departments of Motor Vehicles)

While federal government agencies must follow the guidelines laid out by the federal government, state and local government agencies are permitted to create their own guidelines when granting certain benefits. Each state may have different laws, requirements, and determinations about what documents you need to provide to prove eligibility for certain benefits. Whether you are applying for a federal, state, or local government benefit, you may need to provide the government agency with documents that show you are a TPS beneficiary and/or show you are authorized to work based on TPS. Examples are:

(1) Your expired EAD that has been automatically extended, or your EAD that has a valid expiration date;

(2) A copy of this Federal Register notice if your EAD is automatically extended under this notice;

(3) A copy of your Application for Temporary Protected Status Receipt Notice (Form I-797) for this re-registration;

(4) A copy of your past or current Application for Temporary Protected Status Approval Notice (Form I-797), if you receive one from USCIS; and/or

(5) If there is an automatic extension of work authorization, a copy of the fact sheet from the USCIS TPS Web site that provides information on the automatic extension.

Check with the government agency regarding which document(s) the agency will accept. You may also provide the agency with a copy of this notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at www.uscis.gov/save, then by choosing “How to Correct Your Records” from the menu on the right.

[FR Doc. 2012-23826 Filed 9-28-12; 8:45 am]

BILLING CODE 9111-97-P